DEPARTMENT OF COMMERCE

Foreign-Trade Zones Board

[B-41-2017]

Foreign-Trade Zone (FTZ) 283—West Tennessee Area; Notification of Proposed Production Activity; MTD Consumer Group Inc. (Landscaping Equipment and Off-Road Utility Vehicles); Martin, Tennessee

MTD Consumer Group Inc. (MTD) submitted a notification of proposed production activity to the FTZ Board for its facility in Martin, Tennessee. The notification conforming to the requirements of the regulations of the FTZ Board (15 CFR 400.22) was received on June 1, 2017.

The applicant indicates that it will be submitting a separate application for FTZ designation at the MTD facility under FTZ 283. The facility is used for the production of power landscaping equipment and off-road utility vehicles. Pursuant to 15 CFR 400.14(b), FTZ activity would be limited to the specific foreign-status materials and components and specific finished products described in the submitted notification (as described below) and subsequently authorized by the FTZ Board.

Production under FTZ procedures could exempt MTD from customs duty payments on the foreign-status components used in export production. On its domestic sales, for the foreign-status inputs noted below, MTD would be able to choose the duty rates during customs entry procedures that apply to: Blowers; snow thrower attachments; snow throwers; dozer blades; electric lawn mowers; riding lawn mowers; walk behind mowers; deck casters; electric deck lift systems; lawn mower seats; mower discharge restrictors; mower stripping kits; mowing decks; weight kits; chipper shredder vacuums; edgers; log splitters; off-road utility vehicle; utility vehicle doors; utility vehicle roof kits; utility vehicle wheels; utility vehicle rims; utility vehicle head rests; light kits; water pumps; power washers; tillers; de-thatchers; and, aerators (duty rates range from free to 6%). Customs duties also could possibly be deferred or reduced on foreign-status production equipment.

The components and materials sourced from abroad include: Plastic hoses; rubber hoses; rubber tires for lawn and garden equipment and all-terrain vehicles; rubber inner tubes; rubber o-rings; rubber oil seals; rubber water seals; steel hydraulic fittings; steel pipe fittings; steel banjo fittings; steel cables; steel bolts; steel screws; steel nuts; steel pins; steel springs; steel ferrules; gasoline engines; engine cylinders; exhaust pipes; hydraulic cylinders; hydraulic pumps; spacers; blower wheels; filter inlets; oil filters; fuel filters; air filters; jack stands; block joints; tiller wheels; tiller tines; tiller handles; axle pivots; ball joints; brake pedals; bumpers; gas cylinder dampers; gear housings; hubs; hub caps; mower axles; mower tie rods; pivot bars; pivot knuckles; steering arms; steering columns; steering housings; mechanical tubing; mower wheels; hitch coupling assemblies; log splitter cylinder mounts; log splitter stress plates; log splitter wedges; mechanical tubing; wheel spindles; log splitter wheels; hydraulic valves; ball bearings; shafts; steering rod ends; gearboxes; pulleys; gear housings; electric motors; steering assemblies; control panels; wiring harnesses; bumpers; seat belts; brake calipers; road wheels for lawn and garden equipment and utility vehicles; pivot knuckles; shock absorbers; ball joints; brake hoses; exhaust pipes; wheel hubs; and, indicator gauges (duty rates range from free to 9%).

Public comment is invited from interested parties. Submissions shall be addressed to the FTZ Board's Executive Secretary at the address below. The closing period for their receipt is July 31, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: June 13, 2017.
Andrew McGilvray,
Executive Secretary.

[FR Doc. 2017-12655 Filed 6-16-17; 8:45 am]

BILLING CODE 3510-DS-P